DEPARTMENT OF DEFENSE

Office of the Secretary

[Docket ID: DoD-2013-HA-0180]

Proposed Collection; Comment Request; Correction

AGENCY: Office of the Assistant Secretary of Defense for Health Affairs, DoD.

ACTION: Notice; correction.

SUMMARY: On Tuesday, August 20, 2013 (78 FR 51172-51173), the Department of Defense published a notice titled Proposed Collection; Comment Request. Subsequent to the publication of this notice in the Federal Register, DoD discovered that the Docket ID was printed incorrectly to read DoD-2008-HA-0180. The Docket ID is corrected to read as set forth in this notice. The corrected Docket ID should read DoD-2013-HA-0180.

DATES: This notice is effective on August 27, 2013.

FOR FURTHER INFORMATION CONTACT: Fred Licari, 571-372-0493.

Dated: August 22, 2013.
Aaron Siegel,
Alternate OSD Federal Register Liaison Officer, Department of Defense.

[FR Doc. 2013-20818 Filed 8-26-13; 8:45 am]

BILLING CODE 5001-06-P